DEPARTMENT OF TRANSPORTATION

Federal Aviation Administration

14 CFR Part 39

[Docket No. FAA-2012-0338; Directorate Identifier 2009-SW-51-AD]

RIN 2120-AA64

Airworthiness Directives; Eurocopter France Helicopters

AGENCY: Federal Aviation Administration (FAA), DOT.

ACTION: Notice of proposed rulemaking (NPRM).

SUMMARY: We propose to adopt a new airworthiness directive (AD) for Eurocopter France Model SA341G helicopters. This proposed AD is prompted by an analysis and tests performed by the manufacturer that indicate that the life limit of the rotating star should be 12,000 hours time-in-service (TIS). The proposed actions are intended to prevent failure of the rotating star and subsequent loss of control of the helicopter.

DATES: We must receive comments on this proposed AD by May 29, 2012.

ADDRESSES: You may send comments by any of the following methods:

• Federal eRulemaking Docket: Go to http://www.regulations.gov. Follow the online instructions for sending your comments electronically.

• Fax: 202-493-2251.

• Mail: Send comments to the U.S. Department of Transportation, Docket Operations, M-30, West Building Ground Floor, Room W12-140, 1200 New Jersey Avenue SE., Washington, DC 20590-0001.

• Hand Delivery: Deliver to the “Mail” address between 9 a.m. and 5 p.m., Monday through Friday, except Federal holidays.

Examining the AD Docket

You may examine the AD docket on the Internet at http://www.regulations.gov or in person at the Docket Operations Office between 9 a.m. and 5 p.m., Monday through Friday, except Federal holidays. The AD docket contains this proposed AD, the economic evaluation, any comments received, and other information. The street address for the Docket Operations Office (telephone 800-647-5527) is in the ADDRESSES section. Comments will be available in the AD docket shortly after receipt.

FOR FURTHER INFORMATION CONTACT: Gary Roach, Aviation Safety Engineer, Regulations and Policy Group, Rotorcraft Directorate, FAA, 2601 Meacham Blvd., Fort Worth, TX 76137; telephone (817) 222-5110; email gary.b.roach@faa.gov.

SUPPLEMENTARY INFORMATION:

Comments Invited

We invite you to participate in this rulemaking by submitting written comments, data, or views. We also invite comments relating to the economic, environmental, energy, or federalism impacts that might result from adopting the proposals in this document. The most helpful comments reference a specific portion of the proposal, explain the reason for any recommended change, and include supporting data. To ensure the docket does not contain duplicate comments, commenters should send only one copy of written comments, or if comments are filed electronically, commenters should submit only one time.

We will file in the docket all comments that we receive, as well as a report summarizing each substantive public contact with FAA personnel concerning this proposed rulemaking. Before acting on this proposal, we will consider all comments we receive on or before the closing date for comments. We will consider comments filed after the comment period has closed if it is possible to do so without incurring expense or delay. We may change this proposal in light of the comments we receive.

Discussion

The Direction Generale de l'Aviation Civile (DGAC), which is the aviation authority for France, has issued French AD No. F-2004-070, dated May 26, 2004, to correct an unsafe condition for Eurocopter France Model SA 341/342 helicopters. The DGAC advises that they issued the AD to require a new service life limit of 12,000 flight hours for the rotating star, part number (P/N) 341A31.4116.21, installed on Model SA341G helicopters.

FAA's Determination

We are proposing this AD because we evaluated all known relevant information and determined that an unsafe condition is likely to exist or develop on other products of the same type design.

Proposed AD Requirements

This proposed AD would require establishing a retirement life of 12,000 hours TIS for the rotating star, P/N 341A31.4116.21.

Costs of Compliance

We estimate that this proposed AD would affect 21 helicopters of U.S. registry and the proposed actions would take approximately 6 work hours per helicopter to accomplish at an average labor rate of $85 per work hour. Required parts would cost approximately $6,000. Based on these figures, we estimate the total cost impact of the proposed AD on U.S. operators to be $6,510 to replace the rotating star on each helicopter, or $136,710 for the entire U.S. fleet.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed, I certify this proposed regulation:

1. Is not a “significant regulatory action” under Executive Order 12866;

2. Is not a “significant rule” under the DOT Regulatory Policies and Procedures (44 FR 11034, February 26, 1979);

3. Will not affect intrastate aviation in Alaska to the extent that it justifies making a regulatory distinction; and

4. Will not have a significant economic impact, positive or negative, on a substantial number of small entities under the criteria of the Regulatory Flexibility Act.

We prepared an economic evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new Airworthiness Directive (AD):

Eurocopter France: Docket No. FAA-2012-0338; Directorate Identifier 2009-SW-51-AD.

(a) Applicability

This AD applies to Model SA341G helicopters, with rotating star, part number (P/N) 341A31.4116.21 installed, certificated in any category.

(b) Unsafe Condition

This AD defines the unsafe condition as a reduced service life of the rotating star. This condition could result in failure of the rotating star and subsequent loss of control of the helicopter.

(c) Compliance

You are responsible for performing each action required by this AD within the specified compliance time unless accomplished previously.

(d) Required Actions

(1) Before further flight, remove any rotating star, part number 341A31.4116.21, with 12,000 or more hours time-in-service (TIS), and replace it with an airworthy rotating star with less than 12,000 hours TIS.

(2) This AD revises the Airworthiness Limitations section of the Instructions for Continued Airworthiness by reducing the service life of the main rotor rotating star from unlimited hours TIS to 12,000 hours TIS.

(e) Alternative Methods of Compliance (AMOC)

(1) The Manager, Safety Management Group, FAA, may approve AMOCs for this AD. Send your proposal to: Gary Roach, Aviation Safety Engineer, Regulations and Policy Group, Rotorcraft Directorate, FAA, 2601 Meacham Blvd., Fort Worth, TX 76137; telephone (817) 222-5110; email gary.b.roach@faa.gov.

(2) For operations conducted under a Part 119 operating certificate or under Part 91, Subpart K, we suggest that you notify your principal inspector, or lacking a principal inspector, the manager of the local flight standards district office or certificate holding district office before operating any aircraft complying with this AD through an AMOC.

(f) Additional Information

The subject of this AD is addressed in Direction Generale de l'Aviation Civile (France) AD No. F-2004-070, dated May 26, 2004.

(g) Subject

Joint Aircraft Service Component (JASC) Code: 6220: Main Rotor Head.

Issued in Fort Worth, Texas, on March 20, 2012.
Kim Smith,
Manager, Rotorcraft Directorate, Aircraft Certification Service.

[FR Doc. 2012-7538 Filed 3-28-12; 8:45 am]

BILLING CODE 4910-13-P